NATIONAL SCIENCE FOUNDATION

Advisory Committee for Mathematical and Physical Sciences; Notice of Meeting

In accordance with the Federal Advisory Committee Act (Pub. L. 92-463, as amended), the National Science Foundation announces the following meeting:

Name: Advisory Committee for Mathematical and Physical Sciences (66).

Date and Time: April 13, 2000—8:20 AM-5:00 PM; April 14, 2000—8:30 AM-2:00 PM.

Place: 4201 Wilson Boulevard, Arlington, VA 22230.

Type of Meeting: Open.

Contact Person: Adriaan de Graaf, Executive Officer, MPS, Room 1005, National Science Foundation, 4201 Wilson Boulevard, Arlington, VA 22230, Telephone: (703) 306-1800.

Minutes: May be obtained from the contact person listed above.

Purpose of Meeting: To provide advice and recommendations on the development of MPS education themes; provide advice on building the MPS intellectual core; advise on methods of achieving overall program excellence in MPS; opportunities for collaboration with the Education and Human Resources (EHR) Directorate, and evaluate the Division of Physics Committee of Visitors' Report.

Agenda:

April 13, 2000

AM—

Introductory Remarks

Review and Approval of Division of Physics Committee of Visitors' Report

MPS Education Themes

PM—

MPS Education Themes

Opportunities for Collaboration with EHR

April 14, 2000

AM—

Building the Intellectual Core of MPS

PM—

Meeting Wrap-up/Future Business

Dated: March 10, 2000.
Karen J. York,
Committee Management Officer.

[FR Doc. 00-6361 Filed 3-14-00; 8:45 am]

BILLING CODE 7555-01-M